DEPARTMENT OF AGRICULTURE

Animal and Plant Health Inspection Service

[Docket No. APHIS-2008-0042]

Control of Russian Knapweed; Availability of an Environmental Assessment

AGENCY: Animal and Plant Health Inspection Service, USDA.

ACTION: Notice of availability and request for comments.

SUMMARY: We are advising the public that an environmental assessment has been prepared by the Animal and Plant Health Inspection Service relative to the environmental release of the gall wasp Aulacidea acroptilonica for the biological control of Russian knapweed (Acroptilon repens). The environmental assessment documents our review and analysis of environmental impacts associated with, and alternatives to, the release of this biological control agent. We are making this environmental assessment available to the public for review and comment.

DATES: We will consider all comments that we receive on or before May 27, 2008.

ADDRESSES: You may submit comments by either of the following methods:

• Federal eRulemaking Portal: Go to http://www.regulations.gov/fdmspublic/component/main?main=DocketDetail&d=APHIS-2008-0042 to submit or view comments and to view supporting and related materials available electronically.

• Postal Mail/Commercial Delivery: Please send two copies of your comment to Docket No. APHIS-2008-0042, Regulatory Analysis and Development, PPD, APHIS, Station 3A-03.8, 4700 River Road, Unit 118, Riverdale, MD 20737-1238. Please state that your comment refers to Docket No. APHIS-2008-0042.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Robert S. Johnson, Branch Chief, Permits, Registrations, Imports and Manuals, PPQ, APHIS, 4700 River Road, Unit 133, Riverdale, MD 20737-1236; (301) 734-5055.

SUPPLEMENTARY INFORMATION:

Background

Russian knapweed (Acroptilon repens) is an aggressive, long-lived perennial in the Asteraceae or sunflower family that thrives in both irrigated and arid environments, and in cropland, pastures, rangeland, shrubland, and wasteland. It is difficult to control in alfalfa, clover, other forage crops, and pastures. It reduces wildlife habitat and suppresses the growth of other plants.

Russian knapweed has no known beneficial qualities. It is not utilized for forage because of its bitter taste, and may cause neurological disorders in horses if consumed. The quality of flour or other grain products that have been contaminated by Russian knapweed is reduced due to the bitter taste it imparts. Studies indicate that the spread of Russian knapweed may have a significant economic impact.

Russian knapweed reproduces primarily vegetatively from a primary vertical root with numerous lateral roots. It is a strong competitor and produces compounds that exclude other plant species. Russian knapweed seeds may be spread through infested hay or crop seeds or through the movement of cattle, as the seeds are able to survive the digestive system of these animals.

Estimated Russian knapweed acreage for the Western United States and Canada for the year 2000 totaled over 1,561,714 acres, with 80 percent of the affected acreage located in the States of Washington, Idaho, Colorado, and Wyoming.

Aulacidea acroptilonica is a small gall-forming wasp that has been demonstrated through specificity testing and field observations reported in scientific literature to attack only Russian knapweed. Gall induction diverts nutrients from flower formation, seed production, and the normal growth of plant tissues, thus reducing the plant's competitive ability and seed production.

APHIS' review and analysis of the potential environmental impacts associated with the use of Aulacidea acroptilonica as an agent for the biological control of Russian knapweed are documented in detail in an environmental assessment entitled “Field Release of Aulacidea acroptilonica (Hymenoptera: Cynipidae), an Insect for Biological Control of Russian Knapweed (Acroptilon repens) in the Continental United States” (January 22, 2008). We are making this environmental assessment available to the public for review and comment. We will consider all comments that we receive on or before the date listed under the heading DATES at the beginning of this notice.

The environmental assessment may be viewed on the Regulations.gov Web site or in our reading room (see ADDRESSES above for instructions for accessing Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 18th day of April 2008.
Kevin Shea,
Acting Administrator, Animal and Plant Health Inspection Service.

[FR Doc. E8-8892 Filed 4-23-08; 8:45 am]

BILLING CODE 3410-34-P